DEPARTMENT OF JUSTICE

Notice of Lodging of Proposed Consent Decree Under the Comprehensive Environmental Response, Compensation, and Liability Act

Notice is hereby given that on June 18, 2008, a Consent Decree in United States of America v. Avco Corporation, Civil Action No. 3:08-cv-1161-ARC, was lodged with the United States District Court for the Middle District of Pennsylvania.

The consent decree resolves the claims of the United States under Section 107(a) of the Comprehensive Environmental Response, Compensation and Liability Act (“CERCLA”), 42 U.S.C. 9607(a), for reimbursement of its past response costs incurred in connection with the Avco-Lycoming Superfund Site, located in Williamsport, Pennsylvania. The consent decree obligates Avco Corporation to reimburse $340,000 of the United States' past response costs paid through July 3, 2007, and all future response costs paid after that date.

The Department of Justice will receive for a period of thirty (30) days from the date of this publication comments relating to this proposed Consent Decree. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to United States of America v. Avco Corporation, Civil Action No. 3:08-cv-1161-ARC, DOJ # 90-11-3-06903/1.

The proposed Consent Decree may be examined at the Office of the United States Attorney for the Middle District of Pennsylvania, Federal Building, 228 Walnut Street, Suite 220, Harrisburg, PA 17108-1754. During the public comment period, the consent decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $32.50 (25 cents per page reproduction cost for a full copy) payable to the U.S. Treasury.

Robert D. Brook,
Assistant Chief, Environmental Enforcement Section, Environment and Natural Resources Division.

[FR Doc. E8-14712 Filed 6-27-08; 8:45 am]

BILLING CODE 4410-CW-P